DEPARTMENT OF HOMELAND SECURITY

Federal Emergency Management Agency

[Docket ID FEMA-2013-0002]

Changes in Flood Hazard Determinations

AGENCY: Federal Emergency Management Agency, DHS.

ACTION: Final notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Arizona:
Maricopa (FEMA Docket No.: B-1306) | Unincorporated areas of Maricopa County (12-09-2950P) | The Honorable Max W. Wilson Chairman, Maricopa County Board of Supervisors, 301 West Jefferson Street, 10th Floor, Phoenix, AZ 85003 | Maricopa County Flood Control District, 2801 West Durango Street, Phoenix, AZ 85009 | April 5, 2013 | 040037
California:
San Bernardino (FEMA Docket No.: B-1306) | City of Fontana (12-09-2642P) | The Honorable Acquanetta Warren, Mayor, City of Fontana, 8353 Sierra Avenue, Fontana, CA 92335 | Fontana City Hall, 8353 Sierra Avenue, Fontana, CA 92335 | May 13, 2013 | 060274
Illinois:
DuPage (FEMA Docket No.: B-1306) | City of Darien (13-05-1709P) | The Honorable Kathleen A. Weaver, Mayor, City of Darien, 1702 Plainfield Road, Darien, IL 60561 | Darien City Hall, 1702 Plainfield Road, Darien, IL 60561 | May 28, 2013 | 170750
Peoria (FEMA Docket No.: B-1306) | City of Peoria (12-05-7861P) | The Honorable Jim Ardis Mayor, City of Peoria, 6141 North Evergreen Circle, Peoria, IL 61614 | City of Peoria Public Works Department, 3505 North Dries Lane, Peoria, IL 61604 | June 7, 2013 | 170536
Indiana:
Boone (FEMA Docket No.: B-1306) | Town of Zionsville (12-05-6549P) | The Honorable Jeff Papa, President, Zionsville Town Council, 1100 West Oak Street, Zionsville, IN 46077 | 1100 West Oak Street, Zionsville, IN 46077 | April 9, 2013 | 180016
Fulton (FEMA Docket No.: B-1306) | City of Rochester (12-05-9647P) | The Honorable Mark Smiley, Mayor, City of Rochester, 320 Main Street, Rochester, IN 46975 | 125 East 9th Street, Rochester, IN 46975 | May 29, 2013 | 180071
Fulton (FEMA Docket No.: B-1306) | Unincorporated areas of Fulton County (12-05-9647P) | The Honorable Mark J. Rodriguez, President, Fulton County Board of Commissioners, 1784 Chickory Lane, Rochester, IN 46975 | 125 East 9th Street Rochester, IN 46975 | May 29, 2013 | 180070
Allen (FEMA Docket No.: B-1277) | Unincorporated areas of Allen County (12-05-1513P) | The Honorable Nelson Peters, President, Allen County Board of Commissioners, 200 East Berry Street, Suite 410, Fort Wayne, IN 46802 | 1 East Main Street, Room 630, Fort Wayne, IN 46802 | November 13, 2012 | 180302
Allen (FEMA Docket No.: B-1277) | City of New Haven (12-05-1513P) | The Honorable Terry E. McDonald, Mayor, City of New Haven, 815 Lincoln Highway East, New Haven, IN 46774 | 815 Lincoln Highway East, New Haven, IN 46774 | November 13, 2012 | 180004
Iowa:
Black Hawk (FEMA Docket No.: B-1306) | City of Cedar Falls (12-07-2641P) | The Honorable Jon Crews, Mayor, City of Cedar Falls, 220 Clay Street, Cedar Falls, IA 50613 | 220 Clay Street, Cedar Falls, IA 50613 | May 31, 2013 | 190017
Michigan:
Wayne (FEMA Docket No.: B-1306) | City of Taylor (12-05-9857P) | The Honorable Jeffrey P. Lamarand, Mayor, City of Taylor, 23555 Goddard Road, Taylor, MI 48180 | 23555 Goddard Road, Taylor, MI 48180 | May 30, 2013 | 260728
Minnesota:
Lac Qui Parle (FEMA Docket No.: B-1306) | City of Dawson (12-05-2019P) | The Honorable Merlin Ellefson, Mayor, City of Dawson, 675 Chestnut Street, Dawson, MN 56232 | 675 Chestnut Street, Dawson, MN 56232 | May 9, 2013 | 270241
Lac Qui Parle (FEMA Docket No.: B-1306) | Unincorporated areas of Lac Qui Parle County (12-05-2019P) | The Honorable DeRon Brehmer, Chair, Lac Qui Parle County Board of Commissioners, 600 6th Street, Madison, MN 562256 | 600 6th Street, Madison, MN 562256 | May 9, 2013 | 270239
St. Louis (FEMA Docket No.: B-1306) | City of Duluth (12-05-3211P) | The Honorable Don Ness, Mayor, City of Duluth, 411 West First Street, Room 402, Duluth, MN 55802 | 411 West First Street, Duluth, MN 55802 | April 12, 2013 | 270421
Missouri:
Greene (FEMA Docket No.: B-1306) | City of Springfield (12-07-2302P) | The Honorable Bob Stephens, Mayor, City of Springfield, 840 Boonville Avenue, Springfield, MO 65801 | 840 Boonville Avenue, Springfield, MO 65801 | May 31, 2013 | 290149
Nebraska:
Buffalo (FEMA Docket No.: B-1306) | City of Kearney (12-07-3246P) | The Honorable Stanley Clouse, Mayor, City of Kearney, 18 East 22nd Street, Kearney, NE 68847 | 18 East 22nd Street, Kearney, NE 68847 | May 9, 2013 | 310016
Ohio:
Portage (FEMA Docket No.: B-1306) | City of Kent (12-05-6090P) | The Honorable Jerry T. Fiala, Mayor, City of Kent, 614 Pioneer Avenue, Kent, OH 44240 | 930 Overholt Drive, Kent, OH 44240 | April 29, 2013 | 390456
Oregon:
Jackson (FEMA Docket No.: B-1306) | Unincorporated areas of Jackson County (12-10-0825P) | The Honorable Don Skundrick, Chair, Jackson County Board of Commissioners, 10 South Oakdale Avenue, Room 214, Medford, OR 97501 | 10 South Oakdale Avenue, Medford, OR 97501 | April 5, 2013 | 415589
Yamhill (FEMA Docket No.: B-1306) | Unincorporated areas of Yamhill County (12-10-1146P) | The Honorable Leslie Lewis, Chair, Yamhill Board of Commissioners, 434 Northeast Evans Street, McMinnville, OR 97128 | 535 Northeast 5th Street, McMinnville, OR 97128 | May 9, 2013 | 410249
Washington:
Franklin (FEMA Docket No.: B-1306) | Unincorporated areas of Franklin County (12-10-0991P) | The Honorable Brad Peck, Chairman, Franklin County Board of Commissioners, 1016 North 4th Avenue, Pasco, WA 99301 | 1016 North 4th Avenue, Pasco, WA 99301 | April 5, 2013 | 530044
Walla Walla (FEMA Docket No.: B-1306) | Unincorporated areas of Walla Walla County (12-10-0991P) | The Honorable Gregory A. Tompkins, Chairman, Walla Walla County Board of Commissioners, 314 West Main Street, Walla Walla, WA 99362 | 314 West Main Street, Walla Walla, WA 99362 | April 5, 2013 | 530194
Wisconsin:
Kewaunee (FEMA Docket No.: B-1306) | City of Kewaunee (12-05-5905P) | The Honorable John Blaha Jr., Mayor, City of Kewaunee, 107 Summers Circle-3, 388-4454, Kewaunee, WI 54216 | 401 Fifth Street, Kewaunee, WI 54216 | April 26, 2013 | 550215
Outagamie (FEMA Docket No.: B-1306) | Unincorporated areas of Outagamie County (12-05-7344P) | The Honorable Thomas Nelson, 410 South Walnut Street, Appleton, WI 54911 | 410 South Walnut Street, Appleton, WI 54911 | June 3, 2013 | 550302
Sauk (FEMA Docket No.: B-1306) | City of Wisconsin Dells (12-05-7540P) | The Honorable Brian L. Landers, Mayor, City of Wisconsin Dells, 305 Bauer Court, Wisconsin Dells, WI 53965 | 300 LaCrosse Street, Wisconsin Dells, WI 53965 | May 28, 2013 | 550065
Wood (FEMA Docket No.: B-1306) | City of Wisconsin Rapids (12-05-6906P) | The Honorable Zach Vruwink, Mayor, City of Wisconsin Rapids, 444 West Grand Avenue, Wisconsin Rapids, WI 54495 | Engineering Department, 444 West Grand Avenue, Wisconsin Rapids, WI 54495 | April 5, 2013 | 555587

(Catalog of Federal Domestic Assistance No. 97.022, “Flood Insurance.”)

Dated: May 17, 2013.
Roy E. Wright,
Deputy Associate Administrator for Mitigation, Department of Homeland Security, Federal Emergency Management Agency.

[FR Doc. 2013-13936 Filed 6-11-13; 8:45 am]

BILLING CODE 9110-12-P